DEPARTMENT OF LABOR

Employment and Training Administration

[NAFTA—6089]

Delphi Harrison Thermal Systems Lockport, NY; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on August 21, 2001 in response to a petition filed on behalf of workers at Delphi Harrison Thermal Systems, Lockport, New York.

This case is being terminated because the separated workers have been rehired since the filing of the petition. Consequently, further investigation in this case would serve no purpose, and the investigation has been terminated.

Signed at Washington, DC, this 5th day of July 2002.
Linda G. Poole,
Certifying Officer, Division of Trade Adjustment Assistance.

[FR Doc. 02-19090 Filed 7-26-02; 8:45 am]

BILLING CODE 4510-30-P